DEPARTMENT OF ENERGY

Federal Energy Regulatory Commission

[Docket No. CP02-57-000, Docket No. CP02-58-000, and Docket No. CP02-59-000]

SCG Pipeline, Inc.; Notice of Application

January 7, 2002.

Take notice that on December 26, 2001, SCG Pipeline, Inc. (SCG), P.O. Box 102407, Columbia, South Carolina 29224-2407, filed an application for a certificate of public convenience and necessity and related authorizations pursuant to section 7(c) of the Natural Gas Act (NGA) and the Commission's rules and regulations thereunder. SCG requests authorization for the following:

(i) A certificate of public convenience and necessity authorizing SCG to construct, install, and operate natural gas pipeline facilities in Georgia and South Carolina and to acquire capacity in certain facilities owned by Southern Natural Gas Company (Southern) also located in Georgia and South Carolina;

(ii) A blanket certificate of public convenience and necessity pursuant to part 284, subpart G of the Commission regulations authorizing the transportation of gas for others;

(iii) A blanket certificate of public convenience and necessity under part 157, subpart F of the Commission's regulations authorizing the construction, acquisition, and operation of certain facilities,

all as more thoroughly described in the application on file with the Commission and open to public inspection. This filing may be viewed on the Web at http://www.ferc.gov using the “RIMS” link, select “Docket #” and follow the instructions (please call (202) 208-2222 for assistance).

SCG asks the Commission to issue a preliminary determination on non-environmental issues by April 1, 2002 and a final certificate order by October 1, 2002 so that SCG will be able to commence transportation services on November 1, 2003.

Any questions regarding SCG's application should be directed to Robert M. Apple, Project Manager, SCG Pipeline, Inc., 105 New Way Road, Columbia, South Carolina 29223 at (803) 217-1819 or by fax at (803) 217-2104.

SCG proposes to construct and operate approximately 18.14 miles of 20-inch diameter pipeline and appurtenant facilities extending from an interconnect with the Twin 30s pipeline system of Southern in Chatham County, Georgia and traversing through Effingham County, Georgia to a terminus in Jasper County, South Carolina.

In addition, SCG seeks authority to acquire from Southern an undivided ownership interest in 190,000 Mcf per day of capacity on Southern's Twin 30s pipeline system which consists of a two parallel 13.25 mile, 30-inch diameter pipelines extending from an existing interconnection with the liquefied natural gas (LNG) facility on Elba Island, Georgia owned by Southern LNG, Inc. to a proposed interconnect with SCG at Port Wentworth, Georgia. SCG states that it will acquire its undivided interest at a price determined by dividing 190,000 Mcf per day of capacity in the Twin 30s system by the total capacity of the Twin 30s system and multiplying by the net book value of the Twin 30s system as calculated at the time of the transfer. Southern has filed an abandonment application in Docket No. CP02-56-000.

SCG states that its project will have an initial capacity of 190,000 Mcf per day and that the capacity is fully subscribed under a precedent agreement with SCANA Energy Marketing, Inc. (SEMI). SCG states that SEMI will use most of the capacity to provide fuel for a proposed electric generating facility to be constructed by South Carolina Electric & Gas Company (SCE&G) in Jasper County, South Carolina. SCG states that SEMI will use the remainder of the capacity to serve various other firm and interruptible markets in the Southeast. SCG estimates that its proposed project will cost approximately $36.4 million.

SCG proposes to provide open access firm and interruptible transportation services under Rate Schedules FT and IT, respectively. SCG proposes to offer both negotiated and recourse rates and states that it has designed its proposed recourse rates using the straight-fixed variable method. SCG has submitted a pro forma FERC Gas Tariff for Commission review.

There are two ways to become involved in the Commission's review of this project. First, any person wishing to obtain legal status by becoming a party to the proceedings for this project should, on or before January 28, 2002, file with the Federal Energy Regulatory Commission, 888 First Street, NE, Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

C.B. Spencer,
Acting Secretary.

[FR Doc. 02-832 Filed 1-11-02; 8:45 am]

BILLING CODE 6717-01-P